DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by September 30, 2002.

Title, Form, and OMB Number: Enlistee Financial Statement; NACRUIT Form 1130/13; OMB Number 0703-0020.

Type of Request: Reinstatement.

Number of Respondents: 2,700.

Responses Per Respondent: 1.

Annual Responses: 2,700.

Average Burden Per Response: 45 minutes.

Annual Burden Hours: 2,025.

Needs and Uses: All persons interested in entering the U.S. Navy or Naval Reserve, who have someone either fully or partially dependent on them for financial support, must provide information on their current financial situation to determine if the individual will be able to meet their financial obligations on Navy pay. The prospective enlistee provides the information during an interview with a Navy recruiter.

Affected Public: Individuals or households.

Frequency: On occasion.

Respondent's Obligation: Required to obtain or retain benefits.

OMB Desk Officer: Ms. Jackie Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: August 26, 2002.
Patricia L. Toppings,
Alternate OSD Federal Register Liaison Officer, Department of Defense.

[FR Doc. 02-22138 Filed 8-29-02; 8:45 am]

BILLING CODE 5001-08-M